DEPARTMENT OF THE INTERIOR

National Park Service

Notice of Inventory Completion for Native American Human Remains, Associated Funerary Objects, and Unassociated Funerary Objects From Yukon Island, AK in the Possession of the University of Pennsylvania Museum of Archeology and Anthropology, Philadelphia, PA

AGENCY: National Park Service.

ACTION: Notice.

Notice is hereby given in accordance with provisions of the Native American Graves Protection and Repatriation Act (NAGPRA), 43 CFR 10.9, of the completion of an inventory of human remains, associated funerary objects, and unassociated funerary objects from Yukon Island, AK in the possession of the University of Pennsylvania Museum of Archeology and Anthropology, Philadelphia, PA.

A detailed assessment of the human remains was made by University of Pennsylvania Museum professional staff in consultation with representatives of the Chugach Alaska Corporation, the Chugach Heritage Foundation, the Cook Inlet Regional Corporation, Koniag Incorporated, the Village of Salamatoff, the Seldovia Village Tribe, the Native Village of Port Graham. The Kenaitze Indian Tribe, the Native Village of Nanwalek (aka English Bay), and the Kodiak Tribal Council were invited to consult but did not participate.

In 1931 and 1932, human remains representing four individuals were excavated from the Fox Farm site on Yukon Island, Kachemak Bay, in south-central Alaska by Frederica De Laguna under the auspices of the University of Pennsylvania Museum. No known individuals were identified. The 24 associated funerary objects include antler and bone tools and a stone lamp.

In 1931 and 1932, human remains representing nine individuals were excavated from a midden on Yukon Island, Kachemak Bay, AK by Frederica De Laguna under the auspices of the University of Pennsylvania Museum. No known individuals were identified. No associated funerary objects are present.

In 1931 and 1932, human remains representing two individuals were excavated from Yukon Island, Kachemak Bay, AK by Frederica De Laguna under the auspices of the University of Pennsylvania Museum. No known individuals were identified. No associated funerary objects are present.

The seven cultural items include beads, stone tools, and a bone needle. These cultural items were excavated from Yukon Island, Kachemak Bay, AK by Frederica De Laguna under the auspices of the University of Pennsylvania Museum. Although these items are recorded as burial objects, they cannot be associated with any of the above human remains.

The 11 cultural items include labrets, and stone and bone tools. These cultural items were excavated from Yukon Island, Kachemak Bay, AK by Frederica De Laguna under the auspices of the University of Pennsylvania Museum. In 1993, the human remains recovered with these cultural items were repatriated from the University of Pennsylvania Museum to the Chugach Alaska Corporation.

Based on archaeological evidence and material culture, these sites on Yukon Island have been identified as Kachemak Bay Pacific Eskimo occupations dated to 1800 B.C.-1100 A.D.

In 1931 and 1932, human remains representing eight individuals were excavated at Cottonwood Creek on the north shore of Kachemak Bay, AK by Frederica De Laguna under the auspices of the University of Pennsylvania Museum. No known individuals were identified. The five associated funerary objects include shell beads, whale bone and antler tools.

The one cultural item is a slate blade. This cultural item is associated with previously repatriated human remains from Cottonwood Creek, Yukon Island, AK from the University of Pennsylvania Museum to the Chugach Alaska Corporation in 1993.

Based on archaeological evidence and analysis of the associated and unassociated funerary objects, these individuals from Cottonwood Creek are Native American dating to the Kachemak Bay Eskimo Tradition (1800 B.C.-1100 A.D.).

Based on the above mentioned information, officials of the University of Pennsylvania Museum have determined that, pursuant to 43 CFR 10.2(d)(1), the human remains listed above represent the physical remains of 23 individuals of Native American ancestry. Officials of the University of Pennsylvania Museum have also determined that, pursuant to 43 CFR 10.2(d)(2), the 41 objects listed above are reasonably believed to have been placed with or near individual human remains at the time of death or later as part of the death rite or ceremony. Officials of the University of Pennsylvania Museum have determined that, pursuant to 43 CFR 10.2(d)(2)(ii), these seven cultural items are reasonably believed to have been placed with or near individual human remains at the time of death or later as part of the death rite or ceremony and are believed, by a preponderance of the evidence, to have been removed from a specific burial site of a Native American individual. Lastly, officials of the University of Pennsylvania Museum have determined that, pursuant to 43 CFR 10.2(e), there is a relationship of shared group identity which can be reasonably traced between these Native American human remains, associated funerary objects, unassociated funerary objects and the Chugach Alaska Corporation.

This notice has been sent to officials of the Chugach Alaska Corporation, the Chugach Heritage Foundation, the Cook Inlet Regional Corporation, Koniag Incorporated, the Village of Salamatoff, the Seldovia Village Tribe, the Native Village of Port Graham, the Kenaitze Indian Tribe, the Native Village of Nanwalek (aka English Bay), and the Kodiak Tribal Council. Representatives of any other Indian tribe that believes itself to be culturally affiliated with these human remains, associated funerary objects, and unassociated funerary objects should contact Dr. Jeremy Sabloff, the Williams Director, University of Pennsylvania Museum of Archaeology and Anthropology, 33rd and Spruce Streets, Philadelphia, PA 19104-6324; telephone: (215) 898-4051, fax (215) 898-0657, before May 26, 2000. Repatriation of the human remains, associated funerary objects, and unassociated funerary objects to Chugach Alaska Corporation may begin after that date if no additional claimants come forward.

Dated: April 10, 2000.
Francis P. McManamon,
Departmental Consulting Archeologist, Manager, Archeology and Ethnography Program.

[FR Doc. 00-10315 Filed 4-25-00; 8:45 am]

BILLING CODE 4310-70-M